DEPARTMENT OF COMMERCE

Bureau of Industry and Security

15 CFR Parts 732, 734, 736, 740, 742, 744, 746, 748, 758, 770, 772, and 774

[Docket No. 231211-0298]

RIN 0694-AI94 and 0694-AJ23

Export Controls on Semiconductor Manufacturing Items; Implementation of Additional Export Controls: Certain Advanced Computing Items; Supercomputer and Semiconductor End Use; Updates and Corrections; Extension of Comment Period

AGENCY: Bureau of Industry and Security, U.S. Department of Commerce.

ACTION: Extension of comment period.

SUMMARY: On October 25, 2023, the Bureau of Industry and Security (BIS) published in the Federal Register the interim final rules (IFR), “Export Controls on Semiconductor Manufacturing Items” (SME IFR) and “Implementation of Additional Export Controls: Certain Advanced Computing Items; Supercomputer and Semiconductor End Use; Updates and Corrections” (AC/S IFR). This notification extends the deadline for submission of written comments on both rules to January 17, 2024. BIS is making this extension to allow commenters to have additional time to review the interim final rules and to benefit from the significant amount of public outreach that BIS is conducting on the rules prior to preparing and submitting their comments on the IFRs.

DATES: The comment period for the interim final rules published on October 25, 2023, at 88 FR 73424 and 88 FR 73458, is extended until January 17, 2024.

ADDRESSES: Comments on the SME IFR and the AC/S IFRs may be submitted to the Federal rulemaking portal (www.regulations.gov). The regulations.gov IDs for these rules are:

• SME IFR: www.regulations.gov, docket number BIS-2023-0016 (ref. 0694-AJ23)

• AC/S IFR: www.regulations.gov, docket number BIS-2022-0025 (ref. 0694-AI94)

All filers using the portal should use the name of the person or entity submitting the comments as the name of their files. Anyone submitting business confidential information should clearly identify the business confidential portion of the submission at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available through https://www.regulations.gov.

FOR FURTHER INFORMATION CONTACT: For questions on the license requirements in the interim final rules, contact Eileen Albanese, Director, Office of National Security and Technology Transfer Controls, Bureau of Industry and Security, Department of Commerce, Phone: (202) 482-0092, Fax: (202) 482-482-3355, Email: rpd2@bis.doc.gov. For emails, include “Advanced computing controls” or “Semiconductor manufacturing items control” as applicable in the subject line.

SUPPLEMENTARY INFORMATION:

Background

On October 17, 2023, BIS released two interim final rules (IFR): “Export Controls on Semiconductor Manufacturing Items” (SME IFR) (88 FR 73424, October 25, 2023) and “Implementation of Additional Export Controls: Certain Advanced Computing Items; Supercomputer and Semiconductor End Use; Updates and Corrections” (AC/S IFR) (88 FR 73458, October 25, 2023). The October 17 AC/S IFR and SME IFR included a comment period deadline of December 18, 2023. The Department of Commerce has determined at this time that the extension of the comment period through January 17, 2024 is warranted to allow for commenters to have additional time to review the interim final rules and to benefit from the significant amount of public outreach that BIS is conducting on the rules prior to preparing and submitting comments. This extension notice specifies that comments may be submitted at any time but must be received by January 17, 2024, to be considered.

Thea D. Rozman Kendler,
Assistant Secretary for Export Administration.

[FR Doc. 2023-27588 Filed 12-14-23; 8:45 am]

BILLING CODE 3510-33-P